SMALL BUSINESS ADMINISTRATION

[Disaster Declaration #11160 and #11161]

Indiana Disaster Number IN-00017

AGENCY: U.S. Small Business Administration.

ACTION: Amendment 1.

SUMMARY: This is an amendment of the Presidential declaration of a major disaster for the State of Indiana (FEMA-1740-DR), dated 01/30/2008.

Incident: Severe Storms and Flooding.

Incident Period: 01/07/2008 and continuing.

DATES: Effective Date: 02/21/2008.

Physical Loan Application Deadline Date: 03/31/2008.

EIDL Loan Application Deadline Date: 10/30/2008.

ADDRESSES: Submit completed loan applications to: U.S. Small Business Administration, Processing And Disbursement Center, 4925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of INDIANA dated 01/30/2008is hereby amended to include the following areas as adversely affected by the disaster:

Primary Counties:

Allen, Benton, De Kalb, Huntington, Kosciusko, Lake, La Porte, Newton, Noble, St. Joseph, Starke, Whitley.

Contiguous Counties:

Illinois: Cook, Iroquois, Kankakee, Vermilion, Will.

Indiana: Adams, Grant, Steuben, Wells.

Michigan: Berrien.

Ohio: Defiance, Paulding, Van Wert, Williams.

All other information in the original declaration remains unchanged.

(Catalog of Federal Domestic Assistance Numbers 59002 and 59008)

Herbert L. Mitchell,
Associate Administrator for Disaster Assistance.

[FR Doc. E8-3851 Filed 2-28-08; 8:45 am]

BILLING CODE 8025-01-P